GENERAL SERVICES ADMINISTRATION

[OMB Control No. 3090-0262; Docket No. 2024-0001; Sequence No. 6]

Submission for OMB Review; of Products With Environmental Attributes

AGENCY: Office of Acquisition Policy, General Services Administration (GSA).

ACTION: Notice.

SUMMARY: Under the provisions of the Paperwork Reduction Act the Regulatory Secretariat Division will be submitting to the Office of Management and Budget (OMB) a request to review and approve an extension of an information collection requirement regarding identification of products with environmental attributes.

DATES: Submit comments on or before: September 26, 2024.

ADDRESSES: Written comments and recommendations for this information collection should be sent within 30 days of publication of this notice to www.reginfo.gov/public/do/PRAMain. Find this particular information collection by selecting “Currently under Review—Open for Public Comments”, or by using the search function.

FOR FURTHER INFORMATION CONTACT: Ms. Adina Torberntsson, Program Analyst, General Services Acquisition Policy Division, GSA, via email to adina.torberntsson@gsa.gov or 720-475-0568.

SUPPLEMENTARY INFORMATION:

A. Purpose

The General Services Administration requires contractors holding Multiple Award Schedule Contracts to identify in their GSA price lists those products that they market commercially that have environmental attributes in accordance with GSAR clause 552.238-78. The identification of these products will enable Federal agencies to maximize the use of these products and meet the responsibilities expressed in statutes and executive order.

B. Annual Reporting Burden

Respondents: 934.

Responses per Respondent: 1.

Annual Responses: 934.

Hours per Response: 1.

Total Burden Hours: 934.

C. Public Comments

A 60-day notice was published in the Federal Register at 89 FR 52052 on June 21, 2024. No comments were received.

Obtaining Copies of Proposals: Requesters may obtain a copy of the information collection documents from the Regulatory Secretariat Division by calling 202-501-4755 or emailing GSARegSec@gsa.gov. Please cite OMB Control No. 3090-0262, Identification of Products with Environmental Attributes, in all correspondence.

Jeffrey A. Koses,
Senior Procurement Executive, Office of Acquisition Policy, Office of Government-wide Policy, General Services Administration.

[FR Doc. 2024-19170 Filed 8-26-24; 8:45 am]

BILLING CODE 6820-61-P